DEPARTMENT OF COMMERCE

National Oceanic and Atmospheric Administration

RIN 0648-XD001

Takes of Marine Mammals Incidental to Specified Activities; Confined Blasting Activities by the U.S. Army Corps of Engineers During the Port of Miami Construction Project in Miami, Florida

AGENCY: National Marine Fisheries Service (NMFS), National Oceanic and Atmospheric Administration (NOAA), Commerce.

ACTION: Notice, withdrawal of an Incidental Harassment Authorization (IHA) application.

SUMMARY: Notice is hereby given that the U.S. Army Corps of Engineers (ACOE) has withdrawn its application for an IHA, for the take of small numbers of marine mammals, by Level B harassment only, incidental to conducting confined blasting activities in the Port of Miami in Miami, Florida. Accordingly, NMFS has withdrawn its related proposed IHA.

ADDRESSES: The documents and the application related to this action are available by writing to Jolie Harrison, Chief, Permits and Conservation Division, Office of Protected Resources, National Marine Fisheries Service, 1315 East-West Highway, Silver Spring, MD 20910, or by telephoning the contact listed here.

A copy of the IHA application may be obtained by writing to the address specified above, telephoning the contact listed below (see FOR FURTHER INFORMATION CONTACT), or visiting the Internet at: http://www.nmfs.noaa.gov/pr/permits/incidental/.

FOR FURTHER INFORMATION CONTACT: Howard Goldstein or Jolie Harrison, NMFS, 301-427-8401.

SUPPLEMENTARY INFORMATION: On November 15, 2013, NMFS received an application from the ACOE requesting an IHA. The requested IHA would authorize the take, by Level B harassment, small numbers of Atlantic bottlenose dolphins (Tursiops truncatus) incidental to confined blasting activities in Miami Harbor, Port of Miami, in Miami-Dade County, Florida. NMFS published a notice of the proposed IHA in the Federal Register (79 FR 6545) on February 4, 2014. On August 3, 2015, NMFS accepted notice from the ACOE withdrawing their IHA application for the proposed action. The ACOE was able to complete the construction project using dredging methods and without needing to conduct confined blasting. Therefore, NMFS has withdrawn its proposed IHA for the action.

Dated: September 3, 2015.
Perry F. Gayaldo,
Deputy Director, Office of Protected Resources, National Marine Fisheries Service.

[FR Doc. 2015-22775 Filed 9-9-15; 8:45 am]

BILLING CODE 3510-22-P